DEPARTMENT OF HEALTH AND HUMAN SERVICES

National Institutes of Health

National Institute of Nursing Research, Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Special Emphasis Panel NINR Individual Predoctoral Fellowship and Mentored Scientist Development Awards.

Date: August 3, 2005.

Time: 12 p.m. to 4:30 p.m.

Agenda: To review and evaluate grant applications.

Place: National Institute of Nursing Research/NIH, One Democracy Plaza, 6701 Democracy Boulevard, Room 712, Bethesda, MD 20814, (Telephone Conference Call).

Contact Person: Jeffrey M. Chernak, PhD, Scientific Review Administrator, Office of Review, Division of Extramural Activities, National Institute of Nursing Research/NIH, 6701 Democracy Plaza, Suite 712, MSC 4870, Bethesda, MD 20817, (301) 402-6959, chernak@nih.gov.

This notice is being published less than 15 days prior to the meeting due to the timing limitations imposed by the review and funding cycle.

Name of Committee: National Institute of Nursing Research Special Emphasis Panel NINR Individual Predoctoral Fellowship and Mentored Scientist Development Awards.

Date: August 9, 2005.

Time: 2:15 p.m. to 3:15 p.m.

Agenda: To review and evaluate grant applications.

Place: National Institute of Nursing Research/NIH, One Democracy Plaza, 6701 Democracy Boulevard, Room 713, Bethesda, MD 20814, (Telephone Conference Call).

Contact Person: John Richters, PhD, Scientific Review Administrator, Office of Review, Division of Extramural Activities, National Institute of Nursing Research/NIH, 6701 Democracy Blvd., Room 713, MSC 4870, Bethesda, MD 20817, (301) 594-5971, jrichters@nih.gov.

This notice is being published less than 15 days prior to the meeting due to the timing limitations imposed by the review and funding cycle.

Name of Committee: National Institute of Nursing Research Special Emphasis Panel NINR Individual Predoctoral Fellowship Awards.

Date: August 9, 2005.

Time: 12 p.m. to 12:30 p.m.

Agenda: To review and evaluate grant applications.

Place: National Institutes of Health, One Democracy Plaza, 6701 Democracy Boulevard, Room 713, Bethesda, MD 20892, (Telephone Conference Call).

Contact Person: John E. Richters, PhD, Scientific Review Administrator, Office of Review, Division of Extramural Activities, National Institute of Nursing Research/NIH, 6701 Democracy Blvd., Room 713, MSC 4870, Bethesda, MD 20817, (301) 594-5971, jrichters@nih.gov.

This notice is being published less than 15 days prior to the meeting due to the timing limitations imposed by the review and funding cycle.

(Catalogue of Federal Domestic Assistance Program Nos. 93.361, Nursing Research, National Institutes of Health, HHS)

Dated: July 25, 2005.
Anthony M. Coelho, Jr., PhD,
Acting Director, Office of Federal Advisory Committee Policy.

[FR Doc. 05-15084 Filed 7-28-05; 8:45 am]

BILLING CODE 4140-01-M